DEPARTMENT OF HEALTH AND HUMAN SERVICES

National Institutes of Health

Submission for OMB Review; Comment Request; Health Information National Trends Survey (HINTS)

SUMMARY: Under the provisions of Section 3507(a)(1)(D) of the Paperwork Reduction Act of 1995, the National Cancer Institute (NCI), the National Institutes of Health (NIH) has submitted to the Office of Management and Budget (OMB) a request for review and approval of the information collection listed below. This proposed information collection was previously published in the Federal Register on December 21, 2000, pages 80444-80445, and allowed 60-days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection

Title: Health Information National Trends Survey (HINTS). Type of Information Collection Request: NEW. Need and Use of Information Collection: As a result of the ongoing changes in the communication environment, there is an unprecedented opportunity to communicate information about cancer and other health topics to the general public. Developing appropriate messages for the public about cancer prevention, detection, diagnosis, treatment, and survivorship requires an understanding of individuals' sources and access to cancer-related information, their knowledge about cancer and other health information, or the factors that enhance or may hinder access, use, or knowledge of health information.

The HINTS is a new telephone survey designed to provide nationally representative, population-based standardized data on health knowledge and health information for the United States. The survey will establish important baseline data about cancer communication practices, preferences for information, and cancer knowledge across the country. This survey will provide data on the public's perceived needs for cancer information, sources and access to health information (e.g., health care providers, Internet, mass media), current knowledge and understanding about cancer prevention and detection, and the barriers to more effectively understanding and utilizing cancer-related information. The HINTS is intended to be conducted every 2 years, and data will be used to measure progress in improving cancer knowledge and communication among the general public. The survey will be administered to one sample adult in 8,000 households, and is intended to have an adequate sample size to produce stable estimates for racial and ethnic minority populations.

Data from this survey are essential for NCI to develop improved cancer-related messages and materials and to tailor these messages for different audiences, especially for cancer prevention and detection. Data will be used to help selecting the best means of communicating cancer-related messages to different audiences (communication channels) to reach the diverse audiences in the United States. Finally, information obtained in this survey data will be used to identify research gaps and to guide the direction and decisions about NCI's research efforts in health promotion and health communication. Frequency of response: One-time. Affected public: Individuals or households. Type of Respondents: U.S. adults. The annual reporting burden is as follows:

Type of respondent | Estimated number of respondents | Frequency of response | Average hours per response | Annual hour burden
Adult respondents to Dress Rehearsal Interview | 150 | 1 | .4509 | 68
Adult respondents to Main Study Household Screener | 11,200 | 1 | .0334 | 374
Adult respondents to Main Study Sample Person Interview | 8,000 | 1 | .4509 | 3607
Total |  |  |  | 4049

There are no Capital Costs to report. There are no Operating or Maintenance Costs to report.

Request for Comments

Written comments and/or suggestions from the public and affected agencies are invited on one or more of the following points: (1) Whether the proposed collection of information is necessary for the proposed performance of the functions of the agency, including whether the information shall have practical utility; (2) The accuracy of the estimate of the burden of the proposed collection of information including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB

Written comments and/or suggestions regarding the item(s) contained in the notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact David E. Nelson, M.D., M.P.H., Project Officer, National Cancer Institute, NIH, 6130 Executive Boulevard, EPN 4068, MSC 7365,Bethesda, Maryland 20852-7365, or call non-toll-free number (301) 594-9904, or FAX your request to (301) 480-2087, or E-mail your request, including your address, to dn83r@nih.gov.

Comments Due Date: Comments regarding this information collection are best assured of having their full effect if received within 30 days of this publication.

Dated: May 21, 2002.
Reesa L. Nichols,
NCI Project Clearance Liaison.

[FR Doc. 02-13277 Filed 5-24-02; 8:45 am]

BILLING CODE 4140-01-M